DEPARTMENT OF THE INTERIOR

Bureau of Land Management

[LLCAD01000 L51010000.EU0000 XXXL5017AP LVRWB11B4700]

Notice of Availability of the Environmental Assessment and Draft Land Use Plan Amendment for the OMYA Direct Land Sale Project, California

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared an Environmental Assessment (EA) and Draft Land Use Plan Amendment (LUPA) of the California Desert Conservation Area (CDCA) Plan for the OMYA Direct Land Sale Project, and by this Notice is announcing the opening of a 60-day public comment period.

DATES: To ensure that comments will be considered, the BLM must receive written comments on the EA and Draft LUPA by January 4, 2019. The BLM will announce any future meetings or hearings and any additional activities involving the public at least 15 days in advance through public notices, media releases, mailings, and the public website at: https://eplanning.blm.gov.

ADDRESSES: You may submit comments related to the OMYA Direct Land Sale Project by any of the following methods:

• Website: https://eplanning.blm.gov.

• Email: blm_ca_omya_project@blm.gov.

• Mail: BLM Barstow Field Office, Attn: OMYA Direct Land Sale, 2601 Barstow Road, Barstow, CA 92311.

Copies of the EA are available at the Barstow Field Office and on the project website at the above address.

FOR FURTHER INFORMATION CONTACT: Matthew Toedtli, BLM Barstow Field Office, 2601 Barstow Road, Barstow, CA 92311, 760-252-6026, or email: mtoedtli@blm.gov. Any person wishing to be added to the project mailing list of interested parties may contact Mr. Toedtli. Persons who use a telecommunications device for the deaf (TDD) may call the Federal Relay Service at 800-877-8339 to contact Mr. Toedtli during normal business hours. The Service is available 24 hours a day, 7 days a week, to leave a message or question with the BLM regarding this project. You will receive a reply during normal business hours.

SUPPLEMENTARY INFORMATION: In 2011, the BLM and OMYA Inc. entered into a Settlement Agreement to resolve the unauthorized use of public lands associated with OMYA's mining operations at its White Knob Quarry. In accordance with that Settlement Agreement, the BLM is considering a direct sale of public land to OMYA under the authority of 43 U.S.C. 1713 and 1719 (Sections 203 and 209 of FLPMA). The BLM published a Notice of Intent (NOI) to prepare an EA and an Amendment to the CDCA Plan in the Federal Register on October 4, 2012. The NOI provided for a 30-day public scoping period for the LUPA, announced the beginning of the scoping process for the EA, and sought public input on environmental issues. No public comments were received.

The Proposed Action (Alternative A) includes the direct land sale of 70 acres of public land to OMYA to resolve the unauthorized use and meet OMYA's need for additional land for disposal of mine waste. To accommodate the proposed land sale, a LUPA is required to change the land use designation of the affected parcel from an Area of Critical Environmental Concern (ACEC) to General Public Lands (GPL). The parcel proposed for sale is currently within the Granite Mountain Wildlife Linkage ACEC as designated in the Desert Renewable Energy and Conservation Plan. The ACEC provides a link for wildlife populations to the north and south of this area. The LUPA would also satisfy the criteria for the sale of public lands under Sections 203 and 209 of FLPMA. In addition to the Proposed Action, two other alternatives are included in the EA. Alternative B (No Action), does not authorize a direct sale of public land, authorizes the continued management of the placer mining claims owned by OMYA and orders the restoration of the site consistent with the applicable mining law. Alternative C provides for a direct land sale of 45 acres of public land to OMYA; a LUPA to remove 45 acres from the Granite Mountain Wildlife Linkage ACEC; and change the land use designation of the affected parcel to GPL, with continued management of the remainder of the placer claims owned by OMYA consistent with the 1872 Mining Law. Alternative A is the BLM's preferred alternative in the EA.

Below are the legal descriptions of the public lands considered in the range of alternatives starting with the 70-acre parcel followed by the 45-acre parcel.

70-Acre Legal Description

San Bernardino Meridian, California

T. 3 N, R. 1 W,

Sec. 5, SW¼SW¼, W½SE¼SW¼, and SE¼SE¼SW¼.

The area described contains 70.00 acres.

45-Acre Legal Description

San Bernardino Meridian, California

T. 3 N, R. 1 W,

Sec. 5, S½SW¼SW¼, W½SE¼SW¼, and W½SE¼SE¼SW¼.

The area described contains 45.00 acres.

End of Land Description

Your input is important and will be considered in the environmental and land-use planning analysis processes. All comment submissions should include the commenter's name and mailing address. Comments, including the names and addresses of the commenter, will be available for public inspection at the Barstow Field Office at the above address during regular business hours (8:00 a.m. to 4:30 p.m.), Monday through Friday, except Federal holidays.

Before including your address, phone number, email address, or other personally identifying information in your comment, you should be aware that your entire comment—including your personally identifiable information—may be made publicly available at any time. While you can ask the BLM in your comment to withhold your personally identifiable information from public review, we cannot guarantee that we will be able to do so.

Authority: 40 CFR 1506.6, 40 CFR 1506.10, 43 CFR 1610.2.

Danielle Chi,
California Deputy State Director, Resources.

[FR Doc. 2018-24175 Filed 11-2-18; 8:45 am]

BILLING CODE 4310-40-P